DEPARTMENT OF HOMELAND SECURITY

Coast Guard

[Docket No. USCG-2010-0947]

Policy for Banning of Foreign Vessels From Entry into United States Ports

AGENCY: Coast Guard, DHS.

ACTION: Notice of policy.

SUMMARY: The U.S. Coast Guard announces release of policy letter 10-03, Banning of Foreign Vessels. This policy letter outlines U.S. Coast Guard procedures for denying entry of certain foreign flagged commercial vessels into any port or place in the United States as a result of the vessel's history of operating in a continuous substandard condition in waters subject to United States jurisdiction.

DATES: This policy became effective on September 1, 2010.

ADDRESSES: This notice and the policy letter described within it are available in the docket and can be viewed by going to http://www.regulations.gov, inserting USCG-2010-0947 in the “Keyword” box, and then clicking “Search.” This policy letter is also available at http://www.homeport.uscg.mil under the Port State Control tab; Foreign Vessel Safety; Banning of Foreign Vessels.

FOR FURTHER INFORMATION CONTACT: If you have questions on this notice or the policy, call or e-mail Lieutenant Commander Charles Fluke, Foreign and Offshore Vessels Division (CG-5432), U.S. Coast Guard, telephone 202-372-1235. If you have questions on viewing material in the docket, call Renee V. Wright, Program Manager, Docket Operations, telephone 202-366-9826.

SUPPLEMENTARY INFORMATION:

Background and Purpose

The U.S. Coast Guard Port State Control (PSC) program began in the United States when Congress, through the 1994 Department of Transportation Appropriations Bill, required the U.S. Coast Guard to change its approach to foreign vessel examinations. The bill required the U.S. Coast Guard to hold those most responsible for substandard ships accountable, including owners, classification societies, and flag States.

Title 33 of the United States Code provides tools and authority for the U.S. Coast Guard to meet this mandate. 33 U.S.C. 1228 prohibits vessels from operating in the navigable waters of the United States or transferring cargo or residue in any port or place under the jurisdiction of the United States if such vessels: Have a history of accidents, pollution incidents, or serious repair problems; fail to comply with applicable regulations, laws, or treaties; discharges oil or hazardous material in violation of law or treaty; or fails to comply with vessel traffic service, manning, and language requirements.

In addition, 33 U.S.C. 1223(b) grants the authority to order any vessel in a port or place subject to the jurisdiction of the United States or in the navigable waters of the United States to operate or anchor as directed if: such vessel does not comply with applicable regulations, law, or treaty; the vessel does not satisfy the conditions for port entry as set out in 33 U.S.C. 1228; or in the interest of safety.

In 1997, the U.S. Coast Guard published regulations to enforce International Maritime Organization (IMO) Resolution A.741 (18), titled “International Management Code for the Safe Operation of Ships and for Pollution Prevention (International Safe Management [ISM] Code)”. The U.S. Coast Guard also published the Navigation and Vessel Inspection Circular (NVIC) 04-05, titled, “Port State Control Guidelines for the Enforcement of Management for the Safe Operation of Ships (ISM) Code,” to provide guidance to both Coast Guard and industry personnel concerning compliance with the requirements of the International Convention for the Safety of Life at Sea (SOLAS), 1974, Chapter IX and the ISM Code.

The cornerstone for ensuring a vessel is compliant with international standards, laws, and regulations is a well written and properly implemented Safety Management System (SMS). Commitment by top level company management and continuous improvement are two fundamental objectives of an effective SMS. Companies that do not embrace a safety culture and that repeatedly operate vessels in a substandard condition have failed to recognize the importance of complying with international conventions and standards and put their crews, vessels, and the marine environment at risk.

Occasionally, the U.S. Coast Guard intercepts vessels arriving into United States waters that consistently demonstrate a substandard condition and, thus, fail to comply with the requirements found in international conventions and domestic regulations. Previously, there was no mechanism in place to effectively and consistently respond to repeat offenders. The U.S. Coast Guard's Banning of Foreign Vessels policy should provide a systematic approach to addressing these vessels. This policy aligns the U.S. Coast Guard with other SOLAS signatory flag States who currently have policies and procedures in place for processing vessels that repeatedly operate in a substandard condition.

Policy Implementation

The U.S. Coast Guard will continue to screen, prioritize, and coordinate all foreign vessel exams in accordance with existing policies. When a vessel has been repeatedly detained (meaning three or more detentions within twelve months) and it is determined by the U.S. Coast Guard's Foreign and Offshore Vessels Division (CG-5432) that failure to effectively implement the SMS was a contributing factor for the substandard condition(s) that led to the detentions, the vessel will be denied entry into any port or place in the United States in compliance with 33 U.S.C. 1228 and 1223(b) until specified actions are completed to the satisfaction of the Coast Guard.

Authority: This notice is issued under authority of 5 U.S.C. 552, 33 U.S.C. 1223(b), and 33 U.S.C. 1228.

Dated: October 25, 2010.
Kevin S. Cook,
Rear Admiral, U.S. Coast Guard, Director of Prevention Policy.

[FR Doc. 2010-27592 Filed 11-1-10; 8:45 am]

BILLING CODE 9110-04-P